NATIONAL SCIENCE FOUNDATION

Special Emphasis Panel in Research Evaluation and Communication; Notice of Meeting

In accordance with Federal Advisory Committee Act (Pub. L. 92-463, as amended), the National Science Foundation announces the following meeting:

Name: Research Evaluation and Communication (1210).

Date/Time: March 26—Rooms 565, 585, 595 (Stafford II) 8:30 a.m.-5 p.m., March 27—Rooms 565, 585, 595 (Stafford II) 8:30 a.m.-5 p.m.

Place: National Science Foundation, 4201 Wilson Boulevard, Arlington, VA 22230.

Type of Meeting: Closed.

Contact Person: Finbarr Sloane, Program Director, Research Evaluation and Communication Division, National Science Foundation, Room 855, 4201 Wilson Boulevard, Arlington, VA 22230, (703) 292-8650.

Purpose of Meeting: To provide advice and recommendations concerning proposals submitted to NSF for financial support.

Agenda: To review and evaluate IERI Proposals as part of the selection process for awards.

Reason for Closing: The proposals being reviewed include information of a proprietary or confidential nature, including technical information; financial data, such as salaries; and personal information concerning individuals associated with the proposals. These matters are exempt under 5 U.S.C. 552b. (c)(4) and (6) of the Government in the Sunshine Act.

Dated: February 13, 2001.
Susanne Bolton,
Committee Management Officer.

[FR Doc. 01-3981 Filed 2-15-01; 8:45 am]

BILLING CODE 7555-01-M